FEDERAL COMMUNICATIONS COMMISSION

[OMB 3060-0806]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before February 13, 2015. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION: OMB Control Number: 3060-0806.

Title: Universal Service—Schools and Libraries Universal Service Program, FCC Forms 470 and 471.

Form Numbers: FCC Forms 470 and 471.

Type of Review: Extension of a currently approved collection.

Respondents: Not-for-profit institutions, and state, local or tribal government public institutions.

Number of Respondents and Responses: 82,000 respondents, 82,000 responses.

Estimated Time per Response: 3 hours to fill out FCC Form 470 and 4 hours to fill out the FCC Form 471 plus 0.5 hours for each form for the ten-year recordkeeping requirement.

Frequency of Response: On occasion, annual reporting, and recordkeeping requirements.

Obligation to Respond: Required to obtain or retain benefits. Statutory authority for this information collection is contained in 47 U.S.C.s 151—154, 201—205, 218—220, 254, 303(r), 403, and 405.

Total Annual Burden: 334,000 hours.

Total Annual Cost: No cost.

Privacy Act Impact Assessment: No impact(s).

Nature and Extent of Confidentiality: There is no assurance of confidentiality provided to respondents concerning this information collection. If the Commission requests applicants to submit information that the respondents believe is confidential, respondents may request confidential treatment of their information under 47 CFR 0.459 of the Commission's rules.

Needs and Uses: FCC Forms 470 and 471 collect the information the Commission and the Universal Service Administrative Company (USAC) need to administer the schools and libraries universal service mechanism (informally known as the E-rate program), determine if entities are eligible for funding pursuant to the schools and libraries support mechanism, determine the amount of support entities seeking funding are eligible to receive, determine if entities are complying with the Commission's rules, and prevent waste, fraud, and abuse. The forms collect specific information to establish that economically disadvantaged schools and rural schools receive a greater share of E-rate program funding based on the percentage of students eligible in that school district for the national school lunch program (NSLP) (or other acceptable indicators of economic disadvantage determined by the Commission). The student poverty level needed to determine discounts for libraries are based on the NSLP information for the school district nearby. In the E-rate Modernization Order, among other things, the Commission took steps to streamline the application process, provide exemptions from competitive bidding, implement a “district-wide” discount calculation mechanism, establish budgets for internal broadband connectivity, and extend the document retention period to ten years. FCC Forms 470 and 471 execute these changes for the E-rate application process and enable the Commission to collect data to facilitate measurement of progress towards the adopted performance goals established in the E-rate Modernization Order.

In addition, this collection is necessary to allow the Commission to evaluate the extent to which the E-rate program is meeting the statutory objectives specified in section 254(h) of the 1996 Act.

Federal Communications Commission.
Marlene H. Dortch,
Secretary, Office of the Secretary, Office of the Managing Director.

[FR Doc. 2014-29267 Filed 12-12-14; 8:45 am]

BILLING CODE 6712-01-P